DEPARTMENT OF COMMERCE

National Oceanic and Atmospheric Administration

50 CFR Part 635

[I.D. 061604A]

Atlantic Highly Migratory Species; Bluefin Tuna Catch Limit Adjustments

AGENCY: National Marine Fisheries Service (NMFS), National Oceanic and Atmospheric Administration (NOAA), Commerce.

ACTION: Adjustment of Angling and Charter/Headboat retention limits.

SUMMARY: NMFS adjusts the daily retention limit for the recreational fishery for Atlantic bluefin tuna (BFT) for the 2004 fishing year that began June 1, 2004, and ends May 31, 2005. Vessels permitted in the Atlantic Highly Migratory Species (HMS) Angling and the Atlantic HMS Charter/Headboat categories are eligible to land BFT under the BFT Angling category quota. The seasonal adjustments to the daily retention limit for BFT are specified in the DATES and SUPPLEMENTARY INFORMATION sections of this document. This action is being taken to enhance recreational BFT fishing opportunities for all geographic areas.

DATES: Effective June 21 through July 21, 2004, inclusive, the daily recreational retention limit, in all areas, for vessels permitted in the Atlantic HMS Angling category is two BFT per vessels per day/trip; for vessels permitted in the Atlantic HMS Charter/Headboat category the limit is three BFT per vessel per day/trip. These BFT must measure between 27 to less than 73 inches (69 to less than 185 cm) curved fork length (CFL).

Effective July 22, 2004 through May 31, 2005, inclusive, the daily recreational retention limit, in all areas, for all vessels fishing under the Angling category quota (i.e., both HMS Angling and Charter/Headboat vessels) is one BFT measuring 27 to less than 73 inches (69 to less than 185 cm) CFL per vessel per day/trip.

FOR FURTHER INFORMATION CONTACT: Brad McHale, (978) 281-9260.

SUPPLEMENTARY INFORMATION: Regulations implemented under the authority of the Atlantic Tunas Convention Act (16 U.S.C. 971 et seq.) and the Magnuson-Stevens Conservation and Management Act (16 U.S.C. 1801 et seq.) governing the harvest of BFT by persons and vessels subject to U.S. jurisdiction are found at 50 CFR part 635. Section 635.27 subdivides the U.S. BFT quota recommended by the International Commission for the Conservation of Atlantic Tunas (ICCAT) among various domestic fishing categories.

Implementing regulations for the Atlantic tuna fisheries at § 635.23 set the daily retention limits for BFT and allow for adjustments to those limits in order to provide for maximum utilization of the quota over the longest period of time. NMFS may increase or decrease the retention limit for any size class BFT or change a vessel trip limit to an angler limit or vice versa. Such adjustments to the retention limits may be applied separately for persons aboard specific vessel types, such as private vessels, headboats and charter boats.

Angling Category Retention Limit

A recommendation of ICCAT requires that NMFS limit the catch of school BFT to no more than 8 percent by weight of the total domestic landings quota over each four-consecutive-year period. NMFS is implementing this ICCAT recommendation through annual and inseason adjustments to the school BFT retention limits, as necessary, and through the establishment of a school BFT reserve (64 FR 29090, May 28, 1999; 64 FR 29806, June 3, 1999).

The ICCAT recommendation allows for interannual adjustments for overharvests and underharvests, provided that the 8 percent landings limit is not exceeded over the applicable four consecutive-year period. The 2004 fishing year is the second year in the current accounting period. This multi-year block quota approach provides NMFS with the flexibility to enhance fishing opportunities and to collect information on a broad range of BFT size classes.

Regulations at 50 CFR 635.23(b) restrict vessels fishing under the BFT Angling category quota to one BFT per vessel per day/trip, which may be from the school, large school, or small medium category and, in addition, one large medium or giant BFT, 73 inches or greater (185 cm) CFL per vessel per year. Regulations at 50 CFR 635.23(b)(3) allow for the adjustment of these retention limits.

In 2003, NMFS increased the Angling category daily retention limit to one school, large school, or small medium BFT per person with a maximum of six BFT per vessel from June 15 through October 31, 2003, and then reduced it to one large school, or small medium BFT for November 1, 2003, through May 31, 2004 (68 FR 35822, June 17, 2003). During the development of the 2003 BFT quota specifications, it was initially determined that the Angling category had not harvested the available quota in 2002, thus the unharvested 2002 quota was carried over to the 2003 Angling category quota, and was the basis for liberalized retention limits. However, after publication of the final initial 2003 BFT quota specifications (68 FR 56783, October 2, 2004), revised estimates of 2002 fishing year Angling category landings indicated that the Angling category fishery actually overharvested its allocated quota in the 2002 fishing year. Therefore, NMFS closed the Angling category fishery in mid-November 2003 (68 FR 64990, November 18, 2003) for the remainder of the fishing year to avoid further overharvest in 2003.

As of June 1, 2004, additional quota is available to the United States, for the 2004 fishing year, pursuant to an ICCAT Recommendation. The 2002 and 2003 Angling category landings estimates are currently under review. However, based on preliminary landings information and information that recreational size class BFT are currently on the fishing grounds and that the current recreational retention limits are restricting any directed fishing trips for BFT, NMFS is making modest adjustments to the daily recreational retention limits at this time to provide recreational anglers a reasonable opportunity to pursue BFT.

Since June 1, 2004, the retention limit of one school, large school or small medium as specified at 50 CFR 635.23(b) has been in effect. Effective June 21 through July 21, 2004, inclusive, NMFS adjusts the daily retention limit for vessels permitted in the HMS Angling category, in all areas, to two BFT per vessel per day/trip, in any combination of the school, large school, or small medium size classes. Effective July 22, 2004, NMFS adjusts the daily retention limit for vessels permitted in the HMS Angling category, in all areas, to one BFT per vessel per day/trip, in any combination of the school, large school, or small medium size classes.

Charter/Headboat Category Retention Limit

NMFS has also received public comments that a recreational retention limit of less than three or four BFT per vessel per day/trip does not provide reasonable fishing opportunities for charter/headboats, which carry multiple fee-paying passengers. Charter/Headboat operators have requested a modified recreational retention limit that recognizes a fee-paying client's willingness to book charters based on potential retention limits. On December 18, 2002, NMFS published a final rule that clarified the procedures to set differential BFT retention limits to provide equitable fishing opportunities for all types of fishing vessels (67 FR 77434). NMFS has determined, for economic reasons, that it is appropriate to implement an alternative recreational retention limit for vessels possessing a Atlantic HMS Charter/Headboat category permit.

Pursuant to 50 CFR 635.23(c), persons aboard a vessel issued an HMS Charter/Headboat permit may retain and land BFT under the daily limits and quotas applicable to the Angling category or the General category. The size category of the first BFT retained will determine the fishing category applicable to the vessel that day.

Since June 1, 2004, the retention limit of one school, large school or small medium as specified at 50 CFR 635.23(b) has been in effect. Effective June 21 through July 21, 2004, inclusive, NMFS adjusts the daily retention limit for vessels permitted in the HMS Charter/Headboat category, in all areas, to three BFT per vessel per day/trip, in any combination of the school, large school, or small medium size classes. Effective July 22, 2004, NMFS adjusts the daily retention limit for vessels permitted in the HMS Charter/Headboat category, in all areas, to one BFT per vessel per day/trip, in any combination of the school, large school, or small medium size classes.

Monitoring and Reporting

NMFS selected the daily retention limits and the duration of the daily retention limit adjustments after examining past catch and effort rates. NMFS will continue to monitor the recreational BFT fishery closely through the Automated Landings Reporting System, the state harvest tagging programs in North Carolina and Maryland, and the Large Pelagics Survey. Depending on the level of fishing effort and catch rates of BFT, NMFS may determine that additional retention limit adjustments are necessary to enhance scientific data collection from, and fishing opportunities in, all geographic areas. Additionally, NMFS may determine that an allocation from the school BFT reserve is warranted to further fishery management objectives.

Subsequent adjustments to the daily retention limit, if any, will be published in the Federal Register. In addition, anglers may call the Atlantic Tunas Information Line at (888) 872-8862 or (978) 281-9305 for updates on quota monitoring and retention limit adjustments. All recreational BFT landed under the Angling category quota must be reported within 24 hours of landing to the NMFS Automated Landings Reporting System via toll-free phone at (888) 872-8862; or the Internet at www.nmfspermits.com; or, if landed in the states of North Carolina or Maryland, to a reporting station prior to offloading. Information about these state harvest tagging programs, including reporting station locations, can be obtained in North Carolina by calling (800) 338-7804, and in Maryland by calling (410) 213-1531.

Classification

The Assistant Administrator for Fisheries, NOAA (AA), finds good cause that providing prior notice and public comment for this action, as required under 5 U.S.C. 553(b)(B), is impracticable and contrary to the public interest. This action is intended to enhance recreational BFT fishing opportunities for all geographic areas without risking overharvest of the Angling category quota. NMFS has recently received information that recreational BFT are currently available on the fishing grounds and that the current recreational retention limits are restricting any directed fishing trips for BFT. The fishery is currently underway with a limited default recreational BFT retention limit and further delay in taking this action may have negative social and economic impacts on the recreational and charter/headboat communities.

NMFS provides prior notification of any adjustments by publishing them in the Federal Register, by faxing notification to individuals on the HMS FAX Network and to known fishery representatives, by announcing the notice on the Atlantic Tunas Information Line, and by posting the notice on the HMS Permitting website at www.nmfspermits.com.

For these reasons mentioned above and because this action relieves a restriction, the AA also finds good cause to waive the 30-day delay in effective date pursuant to 5 U.S.C. 553(d)(1) and (3). This action is required under 50 CFR 635.28(a)(1) and is exempt from review under Executive Order 12866.

Authority: 16 U.S.C. 971 et seq. and 1801 et seq.

Dated: June 18, 2004.
John H. Dunnigan
Director, Office of Sustainable Fisheries, National Marine Fisheries Service

[FR Doc. 04-14231 Filed 6-18-04; 3:50 pm]

BILLING CODE 3510-22-S